DEPARTMENT OF THE INTERIOR

Bureau of Land Management

[CA-160-1430-01; CA 42826]

Notice of Realty Action; Recreation and Public Purposes (R&PP) Act Classification; California

AGENCY: Bureau of Land Management, Interior.

ACTION: Notice.

SUMMARY: The following BLM public lands in San Luis Obispo County, California have been examined and found suitable for classification for conveyance to the County of San Luis Obispo under the provisions of the Recreation and Public Purposes Act, as amended (43 U.S.C. 869 et seq.). The lands will not be offered for conveyance until at least 60 days after publication of this Notice in the Federal Register:

Mount Diablo Meridian, T. 30 S., R. 14 E.

Section 2 Lot 7, Lot 8, Lot 9, W½ of Lot 10, Lot 12, N½SW¼, SW¼SW¼

Section 3 Lot 4, W½ of Lot 5, S½E½ of Lot 6, Lot 9, Lot 10, Lot 11, Lot 13, S½

Section 4 SE¼

Containing 1299.81 acres

APNs: portion of 070-351-004, 070-351-005, portion of 070-351-006, portion of 070-361-007.

The County of San Luis Obispo has filed an application to purchase the above BLM land for an addition to the Santa Margarita Lake Regional Park. These lands lie north of the Lake. The primary purpose of the conveyance would be for public recreation, with construction of a trail system and campgrounds. The lands are not needed for Federal purposes. Conveyance is consistent with current BLM land use planning and would be in the public interest.

The conveyance instrument (Federal patent) to be issued to the County will be subject to the following terms, conditions, and reservations:

1. Provisions of the Recreation and Public Purposes Act and to all applicable regulations of the Secretary of the Interior.

2. A right-of-way for ditches and canals constructed by the authority of the United States; Act of August 30, 1890 (26 Stat. 391; 43 U.S.C. 945).

3. All minerals shall be reserved to the United States, together with the right to prospect for, mine, and remove the minerals under applicable laws and regulations of the Secretary of the Interior.

4. Any valid existing rights documented on the official public land records at the time of patent issuance.

1. A reversionary clause that will allow the United States to revest title in the event that the subject lands are not used for the purpose for which they were conveyed, or if the County transfers title or control of the subject lands to another party.

6. Any other reservations or conditions that the authorized officer determines appropriate to ensure proper management of the subject lands and interests therein.

Detailed information concerning this action is available for review at the office of the Bureau of Land Management, Bakersfield Field Office, 3801 Pegasus Drive, Bakersfield, California.

Upon publication of this notice in the Federal Register, the subject lands will be removed from their current exchange segregation. At the same time, the subject lands will be segregated from appropriation under the public land laws, including the general mining laws, except for conveyance under the Recreation and Public Purposes Act and leasing under the mineral leasing laws. For a period of 45 days from the date of publication of this notice, interested persons may submit comments regarding the proposed conveyance or classification of the lands to the Field Office Manager, Bakersfield Field Office, 3801 Pegasus Drive, Bakersfield, CA 93308.

Classification Comments: Interested parties may submit comments involving the suitability of the land for an addition to the Regional Park. Comments on the classification must be restricted to whether the land is physically suited for the proposal, whether the use will maximize the future use or uses of the land, whether the use is consistent with local planning and zoning, or if the use is consistent with State and Federal programs.

Application Comments: Interested parties may submit comments regarding the specific uses proposed in the application and plan of development, whether the BLM followed proper administrative procedures in reaching the decision, or any other factor not directly related to the suitability of the land for addition to the Regional Park.

Any adverse comments will be reviewed by the State Director. In the absence of any adverse comments, the classification will become effective 60 days from the date of publication of this notice in the Federal Register.

Dated: July 23, 2002.
John Skibinski,
Acting BLM Field Office Manager.

[FR Doc. 02-23047 Filed 9-13-02; 8:45 am]

BILLING CODE 4310-40-P